DEPARTMENT OF VETERANS AFFAIRS

[OMB Control No. 2900-0021]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine whether supplemental servicing might justify the extension of forbearance to the veteran-borrower as opposed to foreclosure.

DATES: Written comments and recommendations on the proposed collection of information should be received on or before December 18, 2000.

ADDRESSES: Submit written comments on the collection of information to Nancy J. Kessinger, Veterans Benefits Administration (20S52), Department of Veterans Affairs, 810 Vermont Avenue, NW, Washington, DC 20420. Please refer to “OMB Control No. 2900-0021” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles and Form Numbers: Notice of Default, VA Form 26-6850, Notice of Default and Intention to Foreclose, VA Form 26-6850a and Notice of Intention to Foreclose, VA Form 26-6851.

OMB Control Number: 2900-0021.

Type of Review: Extension of a currently approved collection.

Abstract: Holders of guaranteed loans are required to notify VA within 45 days of a loan default by reason of nonpayment of any installment for a period of 60 days from the date of the first uncured default of their intention to foreclose. After delivery of such notice to VA, 30 days must pass before the holder can begin court proceedings or give notice of sale under power of sale or otherwise take steps to terminate the debtor's rights in the security. Many times, defaults are determined insoluble by holders at the time the notice of default is to be filed with VA. In such cases, the holders are requested to file VA Form 26-6850a, which will provide both notices of default and intent to foreclose together on one form. VA Form 26-6850a requires that servicing efforts be fully explained so that VA can determine whether supplemental servicing could develop further information which might justify the extension of forbearance to the veteran-borrower as opposed to foreclosure. The information provided is used to coordinate the actions of VA and the holder to ensure that all legal requirements regarding foreclosure and claim payment are met.

Affected Public: Individuals or households, Business or other for profit.

Estimated Annual Burden: 66,166.

a. VA Form 26-6850—20,166 hours.

b. VA Form 26-6850a—26,000 hours.

c. VA Form 26-6851—20,000 hours.

Estimated Average Burden Per Respondent:

a. VA Form 26-6850—10 minutes.

b. VA Form 26-6850a—20 minutes.

c. VA Form 26-6851—15 minutes.

Frequency of Response: On occasion.

Estimated Number of Respondents: 279,000 hours.

a. VA Form 26-6850—121,000 hours.

b. VA Form 26-6850a—78,000 hours.

c. VA Form 26-6851—80,000 hours.

Dated: September 22, 2000.
By direction of the Acting Secretary.
Donald L. Neilson,
Director, Information Management Service.

[FR Doc. 00-26663 Filed 10-16-00; 8:45 am]

BILLING CODE 8320-01-P